SMALL BUSINESS ADMINISTRATION

Notice of Surrender of License of Small Business Investment Company

Pursuant to the authority granted to the United States Small Business Administration (“SBA”) under Section 309 of the Small Business Investment Act of 1958, as amended, and Section 107.1900 of the Small Business Administration Rules and Regulations, SBA by this notice declares null and void the license to function as a small business investment company under the Small Business Investment Company License No. 04/74-0290 issued to North Carolina Economic Opportunities Funds, L.P.

United States Small Business Administration.
Dated: July 7, 2015.
Javier E. Saade,
Associate Administrator, Office of Investment and Innovation.

[FR Doc. 2015-17185 Filed 7-13-15; 8:45 am]

BILLING CODE 8025-01-P